Proclamation 10384 of April 29, 2022

National Small Business Week, 2022

By the President of the United States of America

A Proclamation

For generations, small businesses across America have shaped and embodied our Nation's entrepreneurial spirit and driven our economy forward. Today, more than 32 million small businesses employ almost half of America's workforce and represent the heart and soul of countless communities. During National Small Business Week, we celebrate America's small businesses and their enormous contributions to American life and prosperity.

When I first took office, the pandemic had devastated America's small business community. Hundreds of thousands of small businesses had closed, main streets were shuttered, and millions more Americans were out of work through no fault of their own. Even with the creativity and resilience of small business owners and workers, COVID-19 took an incalculable toll on so many lives and livelihoods. That is why I made it a top priority to provide substantial, immediate relief to our Nation's small businesses, giving them the tools, resources, and support they needed to reopen, rehire, and rebuild.

My American Rescue Plan and other emergency relief programs distributed hundreds of billions of dollars to millions of small businesses to keep the lights on and keep workers on the payroll. My Administration also removed historic barriers to level the playing field for businesses across rural and urban America, especially businesses owned by veterans, women, and people of color. These efforts have helped millions of small businesses not only weather the pandemic, but thrive.

My Administration is committed to unlocking new opportunities to help small businesses grow and compete. Through the American Rescue Plan, our State Small Business Credit Initiative provides States, territories, and Tribal governments with resources to establish loan and equity capital programs to support entrepreneurs. In addition, the Bipartisan Infrastructure Law has created unprecedented contracting opportunities for small businesses in every community. Already, more than 4,000 projects have been announced to upgrade America's infrastructure, creating significant opportunities for small businesses to grow. The law is delivering affordable high-speed internet access to every community—urban, rural, suburban, and Tribal—so every small business can use digital technologies and gain new customers across the country and around the world. The Bipartisan Infrastructure Law makes the Minority Business Development Agency within the United States Department of Commerce a permanent entity—seeded with a record amount of funding—so minority-owned businesses can receive tailored assistance for their unique challenges and access the capital they need to grow.

I firmly believe that equal opportunity is the bedrock of our democracy. That is why my Administration is committed to using Federal procurement dollars to support firms owned by underrepresented people and to help small businesses build generational wealth. Last year, I announced a set of reforms to increase contracting opportunities for underserved businesses by up to 50 percent by 2025. We are also capitalizing on our historic investments in supply chain resilience and “Made in America” manufacturing so small businesses can innovate, compete, and build the products of tomorrow. To position small businesses for success in the long term, the United States Small Business Administration's Community Navigator Pilot program is forging stronger partnerships with local organizations to get resources to underserved small businesses.

Thanks to these initiatives and the resilience of the American people, America’s entrepreneurial spirit has never been stronger. New business applications grew by more than 30 percent over the course of the pandemic, with almost 5.4 million new applications in 2021 alone. More Americans than ever before—including more women and people of color—are following their dreams and starting new enterprises. My Administration will continue to support them, build upon this remarkable resurgence, and strengthen the foundation of our economy with America's small businesses at the forefront.

This National Small Business Week, let us renew our commitment to supporting our Nation's small businesses. From local “mom and pop” shops to innovative start-ups, small businesses are pillars of our communities and the engine of our economy. By rebuilding our economy from the bottom up and middle out, we can maintain our global competitiveness and build a stronger Nation where everyone can succeed.

NOW, THEREFORE, I, JOSEPH R. BIDEN JR., President of the United States of America, by virtue of the authority vested in me by the Constitution and the laws of the United States, do hereby proclaim May 1 through May 7, 2022, as National Small Business Week. I call upon all Americans to recognize the contributions of small businesses to the American economy, continue supporting them, and honor the occasion with programs and activities that highlight these important businesses.

IN WITNESS WHEREOF, I have hereunto set my hand this twenty-ninth day of April, in the year of our Lord two thousand twenty-two, and of the Independence of the United States of America the two hundred and forty-sixth.

[FR Doc. 2022-09764

Filed 5-4-22; 8:45 am]

Billing code 3395-F2-P